DEPARTMENT OF COMMERCE

Foreign-Trade Zones Board

[B-45-2013]

Subzone 29J, Authorization of Production Activity, LLFlex, LLC; (Foil Backed Paperboard), Louisville, Kentucky

On May 6, 2013, LLFlex, LLC submitted a notification of proposed production activity to the Foreign-Trade Zones (FTZ) Board for its facility within Subzone 29J, in Louisville, Kentucky.

The notification was processed in accordance with the regulations of the FTZ Board (15 CFR part 400), including notice in the Federal Register inviting public comment (78 FR 28577-28578, 5-15-2013). The FTZ Board has determined that no further review of the activity is warranted at this time. The production activity described in the notification is authorized, subject to the FTZ Act and the Board's regulations, including Section 400.14.

Dated: September 3, 2013.
Andrew McGilvray,
Executive Secretary.

[FR Doc. 2013-21898 Filed 9-6-13; 8:45 am]

BILLING CODE 3510-DS-P